DEPARTMENT OF ENERGY

Federal Energy Regulatory Commission

Combined Notice of Filings #1

September 20, 2010.

Take notice that the Commission received the following exempt wholesale generator filings:

Docket Numbers: EG10-69-000.

Applicants: Arizona Solar One LLC.

Description: Notice of Self-Certification of Exempt Wholesale Generator Status of Arizona Solar One LLC.

Filed Date: 09/20/2010.

Accession Number: 20100920-5119.

Comment Date: 5 p.m. Eastern Time on Tuesday, October 12, 2010.

Take notice that the Commission received the following electric rate filings:

Docket Numbers: ER06-560-010.

Applicants: Credit Suisse Energy LLC.

Description: Credit Suisse Energy LLC Notice of Non-Material Change in Status.

Filed Date: 09/17/2010.

Accession Number: 20100917-5197.

Comment Date: 5 p.m. Eastern Time on Friday, October 08, 2010.

Docket Numbers: ER06-758-007; ER06-635-005; ER06-634-005; ER01-2741-008; ER06-759-006; ER07-34-005; ER99-3320-008; ER95-1007-024.

Applicants: Plains End, LLC, Chambers Cogeneration, Limited Partnership, Edgecombe Genco, LLC, Logan Generating Company, L.P., Plains End II, LLC, Rathdrum Power, LLC, Selkirk Cogen Partners, L.P., Spruance Genco, LLC.

Description: Chambers Cogeneration, Limited Partnership, et al. Notice of Non-Material Change in Status.

Filed Date: 09/17/2010.

Accession Number: 20100917-5093.

Comment Date: 5 p.m. Eastern Time on Friday, October 08, 2010.

Docket Numbers: ER10-2477-000.

Applicants: ISO New England Inc.

Description: ISO New England Inc. submits Supplement to Forward Capacity Auction Results Filing.

Filed Date: 09/17/2010.

Accession Number: 20100917-5196.

Comment Date: 5 p.m. Eastern Time on Friday, October 08, 2010.

Docket Numbers: ER10-2495-001.

Applicants: Fulgora Arbitrage Fund, LLC.

Description: Fulgora Arbitrage Fund, LLC submits tariff filing per 35.17(b): Supplement to Market-Based Rate Application of Fulgora Arbitrage Fund, LLC to be effective 9/15/2010.

Filed Date: 09/17/2010.

Accession Number: 20100917-5154.

Comment Date: 5 p.m. Eastern Time on Friday, October 08, 2010.

Docket Numbers: ER10-2686-000.

Applicants: West Penn Power Company.

Description: The West Penn Power Company submits Certificate of Concurrence with Allegheny Power's baseline Open Access Transmission, Third Revised Volume No. 5, filed on September 16, 2010.

Filed Date: 09/16/2010.

Accession Number: 20100916-5158.

Comment Date: 5 p.m. Eastern Time on Thursday, October 07, 2010.

Docket Numbers: ER10-2723-000.

Applicants: Monongahela Power Company.

Description: Monongahela Power Company submits tariff filing per 35.12: Allegheny Power Open Access Transmission Tariff Baseline Filing to be effective 9/17/2010.

Filed Date: 09/17/2010.

Accession Number: 20100917-5056.

Comment Date: 5 p.m. Eastern Time on Friday, October 08, 2010.

Docket Numbers: ER10-2724-000.

Applicants: El Paso Electric Company.

Description: El Paso Electric Company submits tariff filing per 35.12: Baseline Filing of WestConnect Regional Experimental Tariff to be effective 9/17/2010.

Filed Date: 09/17/2010.

Accession Number: 20100917-5057.

Comment Date: 5 p.m. Eastern Time on Friday, October 08, 2010.

Docket Numbers: ER10-2725-000.

Applicants: Monongahela Power Company.

Description: Monongahela Power Company submits tariff filing per 35.12: Monongahela Power Company Baseline Filing to be effective 9/17/2010.

Filed Date: 09/17/2010.

Accession Number: 20100917-5058.

Comment Date: 5 p.m. Eastern Time on Friday, October 08, 2010.

Docket Numbers: ER10-2726-000.

Applicants: West Penn Power Company.

Description: West Penn Power Company submits tariff filing per 35.12: West Penn Power Company Baseline Tariff filing to be effective 9/17/2010.

Filed Date: 09/17/2010.

Accession Number: 20100917-5059.

Comment Date: 5 p.m. Eastern Time on Friday, October 08, 2010.

Docket Numbers: ER10-2727-000.

Applicants: Allegheny Energy Supply Company, LLC.

Description: Allegheny Energy Supply Company, LLC submits tariff filing per 35.12: Allegheny Energy Supply Co. Baseline Filing to be effective 9/17/2010.

Filed Date: 09/17/2010.

Accession Number: 20100917-5060.

Comment Date: 5 p.m. Eastern Time on Friday, October 08, 2010.

Docket Numbers: ER10-2728-000.

Applicants: Green Valley Hydro, LLC.

Description: Green Valley Hydro, LLC submits tariff filing per 35.12: Green Valley Hydro, LLC Baseline Tariff filing to be effective 9/17/2010.

Filed Date: 09/17/2010.

Accession Number: 20100917-5061.

Comment Date: 5 p.m. Eastern Time on Friday, October 08, 2010.

Docket Numbers: ER10-2729-000.

Applicants: Buchanan Generation, LLC.

Description: Buchanan Generation, LLC submits tariff filing per 35.12: Buchanan Generation, LLC Baseline Tariff to be effective 9/17/2010.

Filed Date: 09/17/2010.

Accession Number: 20100917-5062.

Comment Date: 5 p.m. Eastern Time on Friday, October 08, 2010.

Docket Numbers: ER10-2730-000.

Applicants: El Paso Electric Company.

Description: El Paso Electric Company submits tariff filing per 35.12: Baseline Filing of Open Access Transmission Tariff to be effective 9/17/2010.

Filed Date: 09/17/2010.

Accession Number: 20100917-5063.

Comment Date: 5 p.m. Eastern Time on Friday, October 08, 2010.

Docket Numbers: ER10-2731-000.

Applicants: Southern California Edison Company.

Description: Southern California Edison Company's (SCE) Notice of Cancellation of Letter Agreement SES LA-48.

Filed Date: 09/17/2010.

Accession Number: 20100917-5080.

Comment Date: 5 p.m. Eastern Time on Friday, October 08, 2010.

Docket Numbers: ER10-2732-000.

Applicants: Emera Energy Services, Inc.

Description: Emera Energy Services, Inc. submits tariff filing per 35.12: Emera Energy Services MBR Tariff to be effective 9/20/2010.

Filed Date: 09/17/2010.

Accession Number: 20100917-5089.

Comment Date: 5 p.m. Eastern Time on Friday, October 08, 2010.

Docket Numbers: ER10-2733-000.

Applicants: Emera Energy U.S. Subsidiary No. 1, Inc.

Description: Emera Energy U.S. Subsidiary No. 1, Inc. submits tariff filing per 35.12: Emera US Sub 1 MBR Tariff to be effective 9/20/2010.

Filed Date: 09/17/2010.

Accession Number: 20100917-5098.

Comment Date: 5 p.m. Eastern Time on Friday, October 08, 2010.

Docket Numbers: ER10-2734-000.

Applicants: Emera Energy U.S. Subsidiary No. 2, Inc.

Description: Emera Energy U.S. Subsidiary No. 2, Inc. submits tariff filing per 35.12: Emera U.S. Sub 2 MBR Tariff to be effective 9/20/2010.

Filed Date: 09/17/2010.

Accession Number: 20100917-5105.

Comment Date: 5 p.m. Eastern Time on Friday, October 08, 2010.

Docket Numbers: ER10-2735-000.

Applicants: Anthracite Power and Light Company.

Description: Anthracite Power and Light Company submits tariff filing per 35.12: Baseline Tariff Filing to be effective 9/17/2010.

Filed Date: 09/17/2010.

Accession Number: 20100917-5110.

Comment Date: 5 p.m. Eastern Time on Friday, October 08, 2010.

Docket Numbers: ER10-2736-000.

Applicants: Emera Energy Services Subsidiary No. 1 LLC.

Description: Emera Energy Services Subsidiary No. 1 LLC submits Wholesale Market Based Rates Power Sales Tariff, to be effective 9/20/2010.

Filed Date: 09/17/2010.

Accession Number: 20100917-5116.

Comment Date: 5 p.m. Eastern Time on Friday, October 08, 2010.

Docket Numbers: ER10-2737-000.

Applicants: Emera Energy Services Subsidiary No. 2 LLC.

Description: Emera Energy Services Subsidiary No. 2 LLC submits tariff filing per 35.12: EES Sub 2 MBR Tariff to be effective 9/20/2010.

Filed Date: 09/17/2010.

Accession Number: 20100917-5117.

Comment Date: 5 p.m. Eastern Time on Friday, October 08, 2010.

Docket Numbers: ER10-2738-000.

Applicants: The Empire District Electric Company.

Description: The Empire District Electric Company submits tariff filing per 35.12: The Empire District Electric Company FERC Electric Tariffs to be effective 9/17/2010.

Filed Date: 09/17/2010.

Accession Number: 20100917-5118.

Comment Date: 5 p.m. Eastern Time on Friday, October 08, 2010.

Docket Numbers: ER10-2739-000.

Applicants: LS Power Marketing, LLC.

Description: LS Power Marketing, LLC submits tariff filing per 35.12: Market-Based Rate Tariff in Compliance with Order No. 714 to be effective 9/17/2010.

Filed Date: 09/17/2010.

Accession Number: 20100917-5119.

Comment Date: 5 p.m. Eastern Time on Friday, October 08, 2010.

Docket Numbers: ER10-2740-000.

Applicants: Rocky Road Power, LLC.

Description: Rocky Road Power, LLC submits tariff filing per 35.12: Market-Based Rate Tariff in Compliance with Order No. 714 to be effective 9/17/2010.

Filed Date: 09/17/2010.

Accession Number: 20100917-5127.

Comment Date: 5 p.m. Eastern Time on Friday, October 08, 2010.

Docket Numbers: ER10-2741-000.

Applicants: Emera Energy Services Subsidiary No. 3 LLC.

Description: Emera Energy Services Subsidiary No. 3 LLC submits tariff filing per 35.12: EES Sub 3 MBR Tariff to be effective 9/20/2010.

Filed Date: 09/17/2010.

Accession Number: 20100917-5128.

Comment Date: 5 p.m. Eastern Time on Friday, October 08, 2010.

Docket Numbers: ER10-2742-000.

Applicants: Tilton Energy, LLC.

Description: Tilton Energy, LLC submits tariff filing per 35.12: Market-Based Rate Tariff in Compliance with Order No. 714 to be effective 9/17/2010.

Filed Date: 09/17/2010.

Accession Number: 20100917-5135.

Comment Date: 5 p.m. Eastern Time on Friday, October 08, 2010.

Docket Numbers: ER10-2743-000.

Applicants: Bluegrass Generation Company, L.L.C.

Description: Bluegrass Generation Company, L.L.C. submits tariff filing per 35.12: Market-Based Rate Tariff in Compliance with Order No. 714 to be effective 9/17/2010.

Filed Date: 09/17/2010.

Accession Number: 20100917-5136.

Comment Date: 5 p.m. Eastern Time on Friday, October 08, 2010.

Docket Numbers: ER10-2744-000.

Applicants: Riverside Generating Company, L.L.C.

Description: Riverside Generating Company, L.L.C. submits tariff filing per 35.12: Market-Based Rate Tariff in Compliance with Order No. 714 to be effective 9/17/2010.

Filed Date: 09/17/2010.

Accession Number: 20100917-5137.

Comment Date: 5 p.m. Eastern Time on Friday, October 08, 2010.

Docket Numbers: ER10-2745-000.

Applicants: PJM Interconnection, L.L.C.

Description: PJM interconnection, LLC submits executed Wholesale Market Participation Agreement with Space Energy Terrestrial, Inc et al.

Filed Date: 09/17/2010.

Accession Number: 20100917-0210.

Comment Date: 5 p.m. Eastern Time on Friday, October 08, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-24088 Filed 9-24-10; 8:45 am]

BILLING CODE 6717-01-P